SMALL BUSINESS ADMINISTRATION

[Disaster Declaration #10515 and #10516]

Pennsylvania Disaster Number PA-00004

AGENCY: U.S. Small Business Administration.

ACTION: Amendment 1.

SUMMARY: This is an amendment of the Presidential declaration of a major disaster for the Commonwealth of Pennsylvania (FEMA-1649-DR), dated 7/4/2006.

Incident: Severe Storms, Flooding, and Mudslides.

Incident Period: 6/23/2006 and continuing.

Effective Date: 7/5/2006.

Physical Loan Application Deadline Date: 9/5/2006.

EIDL Loan Application Deadline Date: 4/4/2007.

ADDRESSES: Submit completed loan applications to: U.S. Small Business Administration, National Processing And Disbursement Center, 14925 Kingsport Road, Fort Worth, TX 76155.

FOR FURTHER INFORMATION CONTACT: A. Escobar, Office of Disaster Assistance, U.S. Small Business Administration, 409 3rd Street, Suite 6050, Washington, DC 20416.

SUPPLEMENTARY INFORMATION: The notice of the Presidential disaster declaration for the Commonwealth of Pennsylvania, dated 7/4/2006 is hereby amended to include the following areas as adversely affected by the disaster:

Primary Counties:

Berks, Chester, Pike.

Contiguous Counties:

Delaware: New Castle.

Maryland: Cecil.

New York: Orange.

Pennsylvania: Delaware, Lancaster, Montgomery.

All other information in the original declaration remains unchanged.

(Catalog of Federal Domestic Assistance Numbers 59002 and 59008)

Herbert L. Mitchell,
Associate Administrator for Disaster Assistance.

[FR Doc. E6-11149 Filed 7-14-06; 8:45 am]

BILLING CODE 8025-01-P